DEPARTMENT OF DEFENSE

Department of the Navy

Meeting of the Board of Visitors of Marine Corps University

AGENCY: Department of the Navy, DOD.

ACTION: Notice of open meeting.

SUMMARY: The Board of Visitors of the Marine Corps University (BOV MCU) will meet to review, develop and provide recommendations on all aspects of the academic and administrative policies of the University; examine all aspects of professional military education operations; and provide such oversight and advice as is necessary to facilitate high educational standards and cost effective operations. The Board will be reviewing the fiscal plan for next year, the University's Distance Learning program, receiving the annual ethics briefing, and reviewing the University's curriculum mapping initiative. All sessions of the meeting will be open to the public.

DATES: The meetings will be held on Tuesday, April 30, 2002, from 9 a.m. to 4 p.m. and on Wednesday, May 1, 2002, from 9 a.m. to 1 p.m.

ADDRESSES: The meeting will be held at the Marine Corps University General Alfred M. Gray Research Center, Rooms 165-166, 2040 Broadway Street, Quantico, VA 22134.

FOR FURTHER INFORMATION CONTACT: Garry Smith, Executive Secretary, Marine Corps University Board of Visitors, 2076 South Street, Quantico, VA 22134, telephone number (703) 784-4037.

Dated: March 8, 2002.
T.J. Welsh,
Lieutenant Commander, Judge Advocate General's Corps, U.S. Navy, Federal Register Liaison Officer.

[FR Doc. 02-7559 Filed 3-28-02; 8:45 am]

BILLING CODE 3810-FF-P